DEPARTMENT OF JUSTICE

Antitrust Division

Notice Pursuant to the National Cooperative Research and Production Act of 1993—Undersea Technology Innovation Consortium

Notice is hereby given that, on February 5, 2021, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Compass Systems, Inc., Lexington Park, MD; Cross Domain Systems, Inc., Medford, CA; DataRobot, Inc., Boston, VA; Linden Photonics, Inc., Westford, MA; Marotta Controls, Montville, NJ; Massa Products Corporation, Hingham, MA; Materials Sciences LLC, Horsham, PA; Ocean Power Technologies, Monroe Township, NJ; Research and Development Solutions, Inc., McLean, VA; Sidus Solutions LLC, San Diego, CA; SubUAS LLC, Hillsborough, NJ; Sunfish, Inc., Del Valle, TX; The Pennsylvania State University Applied Research Laboratory Electro-Optics Center Division, Freeport, PA; United Aircraft Technologies, Inc., Troy, NY; Urban Electric Power, Inc., Pearl River, NY; Ventus Executive Solutions LLC, Fairfax, VA; and VMware, Inc., Palo Alto, CA have been added as parties to this venture.

Also, AMERICAN SYSTEMS, Middletow, RI; AMETEK SCP, Westerly, RI; ANDRO Computational Solutions, LLC, Rome, NY; Ardalyst Federal LLC, Annapolis, MD; ATLAS North America (ANA), Yorktown, VA; Beck Engineering Inc., Poulsbo, WA; Contrast Inc., Albuquerque, NM; CSA Ocean Sciences Inc., Stuart, FL; Expedition Technology Inc., Dulles, VA; G2 Ops Inc., Virginia Beach, VA; Globe Composite Solutions, Ltd., Stoughton, MA; ICE ITS, Inc., Ashburn, VA; ION/IO Marine Systems, New Orleans, LA; Joel Drake Consulting, LLC, San Diego, CA; and L3 Harris OceanServer, Inc., Fall River, MA have withdrawn from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on November 9, 2020. A notice was published in the Federal Register pursuant to Section 6(b) of the Act on November 20, 2020 (85 FR 74386).

Suzanne Morris,
Chief, Premerger and Division Statistics, Antitrust Division.

[FR Doc. 2021-04957 Filed 3-9-21; 8:45 am]

BILLING CODE 4410-11-P